DEPARTMENT OF ENERGY

Federal Energy Regulatory Commission

[Docket No. AD09-9-000]

Small Hydropower Development in the United States; Notice of Small/Low-Impact Hydropower Webinar

The Federal Energy Regulatory Commission (FERC) will host a Small/Low-Impact Hydropower Webinar on June 22, 2011, from 12 noon to 1 p.m. Eastern Daylight Time. The webinar will be open to the public and advance registration is required.

The purpose of this webinar is to provide guidance on what types of hydropower projects qualify as a conduit or a 5-megawatt (MW) exemption and the requirements for filing an application for these types of projects. Specifically, the webinar will provide the opportunity for participants to learn the differences between a conduit and a 5-MW exemption, find out what to do if a project does not qualify for an exemption, learn how to get more information and assistance from FERC staff, and ask questions.

To register for this webinar, please go to https://www.ferc.gov/whats-new/registration/hydro-webinar-6-22-11-form.asp. Registration will be open for 30 days. Once registered, you will receive a confirmation email containing information about joining the webinar a few days prior to the start of the webinar.

For more information about this webinar, please contact Shana Murray at (202) 502-8333 or shana.murray@ferc.gov.

Dated: May 20, 2011.
Nathaniel J. Davis, Sr.,
Deputy Secretary.

[FR Doc. 2011-13218 Filed 5-26-11; 8:45 am]

BILLING CODE 6717-01-P